DEPARTMENT OF TRANSPORTATION

Federal Highway Administration

Environmental Impact Statement: Jemez Pueblo, Sandoval County, NM

AGENCY: Federal Highway Administration (FHWA), DOT.

ACTION: Notice of intent.

SUMMARY: The FHWA is issuing this notice to advise the public that an environmental impact statement will be prepared for a proposed transportation project near San Ysidro and the Jemez Pueblo in Sandoval County, New Mexico.

FOR FURTHER INFORMATION CONTACT: Gregory D. Rawlings, Environmental Specialist, Federal Highway Administration, 604 W. San Mateo Road, Santa Fe, New Mexico 8705, (505) 820-2027; or Craig Conley, Environmental Program Manager, New Mexico State Highway and Transportation Department, P.O. Box 1149, Santa Fe, New Mexico 87504, (505) 827-5233.

SUPPLEMENTARY INFORMATION: The FHWA, in cooperation with the New Mexico State Highway and Transportation Department (NMSHTD) will prepare an environmental impact statement (EIS), for proposed improvements to the New Mexico Highway 4 (NM 4) Corridor between New Mexico Highway 44 (NM 44) and New Mexico Highway 290 (NM 290), Sandoval County, New Mexico. The study area is approximately six miles long from the junction with NM 44 through the town of San Ysidro, the Jemez Pueblo, and the town of Jemez Pueblo to the vicinity of the junction with NM 290. The current road alignment and grade of this section of NM 4 was constructed in the 1930's with a design speed of 30 mph, 12-foot driving lanes, and no or variable width shoulders. NM 4 is a two-lane rural highway that runs from the junction with NM 44 in San Ysidro north and east through the Jemez Mountains to connect with NM 502 near Los Alamos, New Mexico. No other improvements to the remainder of NM 4 are currently under consideration.

Several transportation problems exist within the project area. These are: (1) This section of NM 4 does not does not meet current Federal and State standards for width, shoulders, access characteristics (turnouts/entrances), cross-section or geometry; (2) The bridge over the Vallecito Creek is in need of replacement; (3) traffic congestion within the town of Jemez Pueblo; (4) the Jemez Pueblo's inability to control access to the town area; and (5) no accommodation for use of the road by pedestrians, bicyclists, and equestrians.

This study will evaluate the need for improvements and evaluate potential transportation alternatives that address the need. Alternatives for consideration include (1) the improvement of the existing alignment; (2) various new alignments within the corridor, and (3) the No-Action option. Options for a new alignment include one approximately 0.25 miles east of the current alignment, two at the southern end of Jemez Pueblo and three at the northern end of the study area. The northern options include potential relocation of the Vallecito bridge and the junction with NM 290.

Informal scoping for the proposal has included comments solicited from residents and groups within the affected area. Concerns have been expressed for preservation and protection of cultural, historic, religious, environmental and community resources. Additional public information and formal scoping meetings will be held to discuss the EIS and provide opportunity for public and agency input to aid in preparation of the documentation. Letters describing the proposed action and soliciting comments will be sent to Federal and state agencies, Native American groups, local governments, and the general public. All interested parties are encouraged to participate in this process and to submit written comments or suggestions. An agency scoping meeting is anticipated in the spring 2000. Additional meetings for the Jemez Pueblo and other local residents will take place in the same time frame. These and subsequent meetings throughout the development of the EIS will be announced via direct mail, locally-posted flyers, and advertisements in local media.

The availability of the Draft EIS will be announced in the Federal Register, local news media, and through direct contact with interested parties. To ensure that the full range of issues to this proposed action are addressed, comments or questions concerning this action and the EIS should be directed to the FHWA and NMSHTD at the address provided above.

(Catalogue of Federal Domestic Assistance Program Number 20.205, Highway Research, Planning and Construction. The regulations implementing Executive Order 12372 regarding intergovernmental consultation on Federal programs and activities and 23 U.S.C. 315; 49 CFR 1.48 apply to this program.)

Issued on: March 15, 2000.
Gregory D. Rawlings,
Environmental Specialist, Santa Fe, New Mexico.

[FR Doc. 00-6910 Filed 3-20-00; 8:45 am]

BILLING CODE 4910-22-M